DEPARTMENT OF THE INTERIOR

Fish and Wildlife Service

Endangered and Threatened Species Permit Applications

ACTION: Notice of receipt of applications.

SUMMARY: The following applicants have applied for a scientific research permit to conduct certain activities with endangered species pursuant to section 10(a)(1)(A) of the Endangered Species Act of 1973, as amended (16 U.S.C. 1531, et seq.).

Permit No. TE-053207

Applicant: Accipiter Biological Consultants, Portal, Arizona.

Applicant requests permit for recovery purposes to conduct presence/absence surveys for the northern aplomado falcon (Falco femoralis septentrionalis) within Cameron County, Texas.

Permit No. TE-053104

Applicant: Athabasca Consulting, Inc., Austin, Texas.

Applicant requests permit for recovery purposes to conduct presence/absence surveys within Texas for the following species: black-capped vireo (Vireo atricapillus), golden-cheeked warbler (Dendroica chrysoparia), Tooth Cave pseudoscorpion (Tartarocreagris texana), Tooth Cave spider (Neoleptoneta myopica), Government Canyon Bat Cave spider (Neoleptoneta microps), Madla's Cave meshweaver (Cicurina madla), Robber Baron Cave meshweaver (Cicurina baronia), Bracken Bat Cave meshweaver (Cicurina venii), Government Canyon Cave meshweaver (Cicurina vespera), Bee Creek Cave harvestman (Texella reddelli), Bone Cave harvestman (Texella reyesi), Cokendolpher Cave harvestman (Texella cokendolpheri), Tooth Cave ground beetle (Rhadine persephone), Kretschmarr Cave mold beetle (Texamaurops reddelli), Coffin Cave mold beetle (Batrisodes texanus), ground beetle (Rhadine exilis), ground beetle (Rhadine infernalis), Helotes Mold beetle (Batrisodes venyivi), Texas blind salamander (Typhlomolge rathbuni), Barton Springs salamander (Eurycea sosorum), Houston toad (Bufo houstonensis) and Fountain darter (Etheostoma fonticola).

Permit No. TE-053085

Applicant: U.S. Bureau of Reclamation, Boulder City, Nevada.

Applicant requests permit for recovery purposes to conduct presence/absence surveys for the Yuma clapper rail (Rallus longirostris yumanensis) within Mohave County, Arizona and San Bernardino County, California. In addition, applicant requests permit for recovery purposes to conduct presence/absence surveys and nest monitoring for the southwestern willow flycatcher (Empidonax traillii extimus) within La Paz and Clark Counties, Nevada and Mohave and Yuma Counties, Arizona.

Permit No. TE-043399

Applicant: Eagle Environmental Consulting, Owasso, Oklahoma.

Applicant requests an amendment to an existing permit to allow presence/absence surveys for the interior least tern (Sterna antillarum) within Oklahoma.

Permit No. TE-841353

Applicant: Loomis Austin, Inc., Austin, Texas.

Applicant requests amendment to an existing permit to allow presence/absence surveys within Texas for the following species: interior least tern (Sterna antillarum), ocelot (Leopardus pardalis) and jaguarundi (Herpailurus yagouaroundi).

Permit No. TE-053083

Applicant: Julie Kutz, Albuquerque, New Mexico.

Applicant requests a permit for recovery purposes to conduct presence/absence surveys for the southwestern willow flycatcher (Empidonax traillii extimus) within New Mexico.

Permit No. TE-053084

Applicant: Derek Green, Austin, Texas.

Applicant requests a permit for recovery purposes to conduct presence/absence surveys within Texas for the following species: golden-cheeked warbler (Dendroica chrysoparia), black-capped vireo (Vireo atricapillus), interior least tern (Sterna antillarum), red-cockaded woodpecker (Picoides borealis), Houston toad (Bufo houstonensis), ground beetle (Rhadine exilis), ground beetle (Rhadine infernalis), Helotes mold beetle (Batrisodes venyivi), Cokendolpher Cave harvestman (Texella cokendolpheri), Robber Baron Cave meshweaver (Cicurina baronia), Madla's Cave meshweaver (Cicurina madla), Bracken Bat Cave meshweaver (Cicurina venii), Government Canyon Bat Cave meshweaver (Cicurina vespera), Government Canyon Bat Cave spider (Neoleptoneta microps), Tooth Cave spider (Neoleptoneta myopica), Bee Creek Cave harvestman (Texella reddelli), Bone Cave harvestman (Texella reyesi), Tooth Cave ground beetle (Rhadine persephone), Kretschmarr Cave mold beetle (Texamaurops reddelli), Coffin Cave mold beetle (Batrisodes texanus), Tooth Cave pseudoscorpion (Tartarocreagris texana), northern aplomado falcon (Falco femoralis septentrionalis), brown pelican (Pelecanus occidentalis) and southwestern willow flycatcher (Empidonax traillii extimus).

Permit No. TE-053080

Applicant: Gary Garrett, Ingram, Texas.

Applicant requests permit for recovery purposes to conduct monitoring surveys for the Comanche Springs pupfish (Cyprinodon elegans) and Pecos gambusia (Gambusia nobilis) within Texas.

Permit No. TE-053109

Applicant: Sally Stefferud, Phoenix, Arizona.

Applicant requests permit for recovery purposes to conduct monitoring surveys for the Gila topminnow (Poeciliopsis occidentalis) and desert pupfish (Cyprinodon macularius) within Cochise, Gila, Graham, Greenlee, La Paz, Maricopa, Pima, Pinal, Santa Cruz and Yavapai Counties of Arizona. Additional activities may include temporary holding and marking in conjunction with authorized recovery projects.

Permit No. TE-025131

Applicant: Dr. Lawrence E. Stevens, Flagstaff, Arizona.

Applicant requests an amendment to an existing permit to allow presence/absence surveys for the southwestern willow flycatcher (Empidonax traillii extimus) and Yuma clapper rail (Rallus longirostris yumanensis) within Arizona.

Permit No. TE-053082

Applicant: U.S.G.S Biological Resources Division, Arizona Cooperative Fish and Wildlife Research Unit, Tucson, Arizona.

Applicant requests permit for research and recovery purposes to conduct presence/absence surveys by electrofishing, capturing and handling the Colorado pikeminnow (Ptychocheilus lucius) and razorback sucker (Xyrauchen texanus) within central Arizona.

Permit No. TE-052634

Applicant: New Mexico Environmental Department/Surface Water Quality Bureau, Santa Fe, New Mexico.

Applicant requests permit for research and recovery purposes to conduct presence/absence surveys by electrofishing, capturing, handling and collecting voucher specimens within New Mexico for the following species: Pecos gambusia (Gambusia nobilis), Rio Grande silvery minnow (Hybognathus amarus), Colorado pikeminnow (Ptychocheilus lucius), razorback sucker (Xyrauchen texanus), Gila topminnow (Poeciliopsis occidentalis) and Gila trout (Oncorhynchus gilae).

Permit No. TE-053843

Applicant: Donna Achuff, Orange Grove, Texas.

Applicant requests permit for educational purposes, to house and/or care for captive bred jaguar (Panthera onca) and ocelot (Leopardus (=Felis) pardalis) within Jim Wells County, Texas for educational purposes.

Permit No. TE-053839

Applicant: Sugnet Environmental, Inc., Durango, Colorado.

Applicant requests permit for research and recovery purposes to conduct presence/absence surveys for the southwestern willow flycatcher (Empidonax traillii extimus) within Arizona, Colorado, New Mexico and Utah.

Permit No. TE-800611

Applicant: SWCA, Inc., Austin, Texas.

Applicant requests an amendment to an existing permit to allow presence/absence surveys for the ocelot (Leopardus (=Felis) pardalis) and jaguarundi (Herpailurus (=Felis) yagouaroundi) within Texas.

Permit No. TE-839503

Applicant: Entranco, Inc., Phoenix, Arizona.

Applicant requests an amendment to an existing permit to allow presence/absence surveys for the Sonoran pronghorn (Antilocapra americana sonoriensis) and brown pelican (Pelecanus occidentalis) within Arizona, New Mexico, and Texas.

[PERMIT NO. TE-820085]

Applicant: The Nature Conservancy of Texas, San Antonio, Texas. Applicant requests an amendment to an existing permit to allow tracking, surveys, monitoring, and collection of dead specimens for the Attwater's prairie-chicken (Tympanuchus cupido attwateri) within Texas. In addition, applicant requests an amendment to allow presence/absence surveys for the interior least tern (Sterna antillarum).

[PERMIT NO. TE-038608]

Applicant: USGS BRD Sonoran Desert Field Station, SRNR, Tucson, Arizona. Applicant requests an amendment to an existing permit for research and recovery purposes to conduct presence/absence surveys by electrofishing, seining and dip-netting for Gila topminnow (Poeciliopsis occidentalis occidentalis) within Arizona.

[PERMIT NO. TE-053736]

Applicant: Barbara Garrison, Chandler, Arizona. Applicant requests permit for research and recovery purposes to conduct presence/absence surveys for the southwestern willow flycatcher (Empidonax traillii extimus) and cactus ferruginous pygmy-owl (Glaucidium brasilianum cactorum) within Arizona.

DATES: Written comments on these permit applications must be received within 30 days of the date of publication.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8:00 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Bryan Arroyo,
Assistant Regional Director, Ecological Services, Region 2, Albuquerque, New Mexico.

[FR Doc. 02-7576 Filed 3-28-02; 8:45 am]

BILLING CODE 4310-55-P